INTERNATIONAL TRADE COMMISSION

[Investigation Nos. 701-TA-610 and 731-TA-1425 and 1427 (Review)]

Refillable Stainless Steel Kegs From China and Mexico; Notice of Termination of Five-Year Reviews

AGENCY: United States International Trade Commission.

ACTION: Notice.

SUMMARY: The Commission instituted the subject five-year reviews on September 3, 2024 to determine whether revocation of the countervailing duty order on refillable stainless steel kegs from China and the antidumping duty orders on refillable stainless steel kegs from China and Mexico would be likely to lead to continuation or recurrence of material injury. On November 21, 2024, the Department of Commerce published a notice in the Federal Register that it was revoking the order on Mexico effective October 10, 2024, and the orders on China effective December 16, 2024, because no domestic interested party filed a timely notice of intent to participate. Accordingly, the subject reviews are terminated.

DATES: October 10, 2024 and December 16, 2024.

FOR FURTHER INFORMATION CONTACT: Alexis Yim (202-708-1446), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

Authority: These reviews are being terminated under authority of title VII of the Tariff Act of 1930 and pursuant to section 751(c) of the Tariff Act of 1930 (19 U.S.C. 1675(c)). This notice is published pursuant to section 207.69 of the Commission's rules (19 CFR 207.69).

By order of the Commission.
Issued: November 25, 2024.
Lisa Barton,
Secretary to the Commission.

[FR Doc. 2024-28129 Filed 11-29-24; 8:45 am]

BILLING CODE 7020-02-P